DEPARTMENT OF AGRICULTURE

Rural Telephone Bank

Special Board of Directors Meeting; Sunshine Act

Time and Date: 9 a.m., Friday, March 11, 2005.

Place: Conference Room 107-A, Jamie L. Whitten Federal Building, U.S. Department of Agriculture, 12th & Jefferson Drive, SW., Washington, DC.

Status: Open.

Matters to be Considered: The following matters have been placed on the agenda for the Board of Directors meeting:

1. Call to order.

2. Resolution for calling a special meeting of the board.

3. Discussion regarding the impact of the President's FY 2006 Budget proposal on the Rural Telephone Bank.

4. Adjournment.

Contact Person for More Information: Jonathan Claffey, Acting Assistant Governor, Rural Telephone Bank, (202) 720-9554.

Dated: March 4, 2005.
Thomas C. Dorr,
Chairperson, Rural Telephone Bank.

[FR Doc. 05-4642 Filed 3-8-05; 8:45 am]

BILLING CODE 3410-15-P